ELECTION ASSISTANCE COMMISSION

EAC Federal Financial Report; Survey and Submission to OMB of Proposed Collection of Information

AGENCY: Election Assistance Commission (EAC).

ACTION: Notice; request for comment.

SUMMARY: As part of its continuing effort to reduce paperwork burdens, and as required by the Paperwork Reduction Act of 1995 (PRA), the U.S. Election Assistance Commission (EAC) gives notice that it is requesting from the Office of Management and Budget (OMB) approval for the information collection EAC Federal Financial Report (EAC-FFR).

DATES: Comments should be submitted by 5 p.m. EST on Friday, April 15, 2022.

ADDRESSES: To view the proposed EAC-FFR format and instrument, see: https://www.eac.gov/payments-and-grants/reporting. For information on the EAC-FFR, contact Kinza Ghaznavi, Office of Grants, Election Assistance Commission, Grants@eac.gov. All requests and submissions should be identified by the title of the information collection.

Written comments and recommendations for the proposed information collection should be sent to www.reginfo.gov/public/do/PRAMain. Find this particular information collection by selecting “Currently under 30-day Review—Open for Public Comments” or by using the search function.

SUPPLEMENTARY INFORMATION:

Title and OMB Number: EAC Federal Financial Report; 87 FR 780 (Page 780-781, Document Number 2021-27861)

Purpose

This proposed information collection was previously published in the Federal Register on January 6, 2022 and allowed 60 days for public comment. In compliance with Section 3507(a)(1)(D) of the Paperwork Reduction Act (PRA) of 1995, EAC has submitted to the Office of Management and Budget (OMB) a request for review and approval of the information collection listed below. The purpose of this notice is to allow an additional 30 days for public comment from all interested individuals and organizations.

The EAC Office of Grants Management (EAC/OGM) is responsible for distributing, monitoring, and providing technical assistance to states and grantees on the use of federal funds. EAC/OGM also reports on how the funds are spent to Congress, negotiates indirect cost rates with grantees, and resolves audit findings on the use of HAVA funds.

The EAC-FFR is employed for all financial reports for grants issued under HAVA authority. This revised format builds upon that report for the various grant awards given by EAC. A “For Comment” version of the draft format for use in submission of the FFR is posted on the EAC website at: https://www.eac.gov/payments-and-grants/reporting. The FFR will directly benefit award recipients by making it easier for them to administer federal grant and cooperative agreement programs through standardization of the types of information required in financial reporting—thereby reducing their administrative effort and costs.

Public Comments

We are soliciting public comments to permit the EAC to:

• Evaluate whether the proposed information collection is necessary for the proper functions of the Office of Grants Management.

• Evaluate the accuracy of our estimate of burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

OMB approval is requested for 3 years.

Respondents: All EAC grantees.

Annual Reporting Burden

Annual Burden Estimates
EAC grant | Instrument | Total number of respondents | Total number of responses per year | Average burden hours per response | Annual burden hours
251 | EAC-FFR | 35 | 2 | .5 | 35
101 | EAC-FFR | 20 | 2 | .5 | 20
Election Security | EAC-FFR | 56 | 2 | .5 | 56
Total |  |  |  |  | 111

The estimated cost of the annualized cost of this burden is: $2,523.03, which is calculated by taking the annualized burden (111 hours) and multiplying by an hourly rate of $22.73 (GS-8/Step 5 hourly basic rate).

Amanda Joiner,
Acting General Counsel, U.S. Election Assistance Commission.

[FR Doc. 2022-05573 Filed 3-15-22; 8:45 am]

BILLING CODE 6820-KF-P